DEPARTMENT OF VETERANS AFFAIRS

[OMB Control No. 2900-0904]

Agency Information Collection Activity: Staff Sergeant Parker Gordon Fox Suicide Prevention Grant Program (SSG Fox SPGP)

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish a notice in the Federal Register concerning each proposed collection of information, including each proposed extension of a currently approved collection, and allow 60 days for public comment in response to the notice.

DATES: Comments must be received on or before April 21, 2026.

ADDRESSES: Comments must be submitted through www.regulations.gov.

FOR FURTHER INFORMATION CONTACT:

Program-specific information: Rebecca Mimnall, 202-695-9434, vhacopra@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Sergeant Parker Gordon Fox Suicide Prevention Grant Program (SSG Fox SPGP) (VA Forms 10-315a-b, 10-316a-f, and 10-317a-d).

OMB Control Number: 2900-0904. https://www.reginfo.gov/public/do/PRASearch (Once at this link, you can enter the OMB Control Number to find the historical versions of this Information Collection).

Type of Review: Revision of a currently approved collection.

Abstract: On October 17, 2020, the Commander John Scott Hannon Veterans Mental Health Care Improvement Act of 2019, Public Law (Pub. L.) 116-171 (the Act), codified as a note to section 1720F of title 38, United States Code (U.S.C.), was enacted in law. Section 201 of the Act mandated VA establish the Staff Sergeant Parker Gordon Fox Suicide Prevention Grant Program (SSG Fox SPGP) to reduce Veteran suicide through the provision of community-based grants to certain eligible entities to provide or coordinate the provision of suicide prevention services to eligible individuals and their families.

In order to award grants under this program, and assess services and compliance with grants provided, VA requires submission of Applications for grants and Renewals of grants, Compliance Reports, Eligibility Screening, Intake Forms and Assessments, Participant Satisfaction Surveys, Program Exit Checklists, and Suicide Risk Screening Tools.

VA Form 10-315a—Application: This information is needed to award SSG Fox SPGP grants to eligible entities. The application requirements are consistent with section 201(f) of the Act and are designed to ensure that VA can fully evaluate the ability of applicants to achieve the goals of the grant program.

VA Form 10-315b—Renewal Application: This data collection instrument has been developed for grantees to renew grants previously awarded. The renewal application will allow VA to fully evaluate the ability of applicants to achieve the goals of the SSG Fox SPGP and proposed 38 CFR part 78. This information will be used by VA to determine whether to award renewal funds to existing grantees.

VA Forms 10-316a-f—Compliance Reports: This collection of information will be required to ensure grantees are complying with all program requirements set forth in proposed 38 CFR part 78 and their grant agreements. These reports will allow VA to assess the provision of services under this grant program. The reports consist of Annual Performance Reports, Other Performance and Implementation Reports, Program & Budget Changes, Corrective Action Plans, Annual Financial Expenditure Reports, and Other Financial Reports.

VA Form 10-317a—Eligibility Screening: This data will be collected by grantee staff to determine eligibility for the grant program, prior to enrollment. The collection instrument will include suicide risk factors.

VA Form 10-317b—Intake Form & Assessments: This data collection instrument will be used by grantee staff to collect demographic and military service. This information will be used by the VA to identify trends of the Veteran population the grantees are servicing. In addition, the intake form will include the following assessments: Social Economic Status (SES); Patient Health Questionnaire (PHQ-9); Short Warwick-Edinburgh Mental Wellbeing Scale (SWEMWS); General Self-Efficacy Scale (GSE); and Interpersonal Support Evaluation List (ISEL-12).

VA Form 10-317c—Participant Satisfaction Survey: This data collection instrument has been developed to capture participant feedback about services and to evaluate the SSG Fox SPGP. This information will be used by VA to determine the satisfaction of Veterans participating in the grant program funded services and the effectiveness of those services provided under the SSG Fox SPGP.

VA Form 10-317d—Program Exit Checklist: This data collection instrument will be used by grantee staff at the completion of the program to track the following assessments upon program exit: Social Economic Status (SES); Patient Health Questionnaire (PHQ-9); Short Warwick-Edinburgh Mental Wellbeing Scale (SWEMWS); General Self-Efficacy Scale (GSE); and Interpersonal Support Evaluation List (ISEL-12).

Columbia Suicide Severity Rating Scale (C-SSRS): Suicide risk screening will be administered by grantees using the existing C-SSRS to assess suicide risk of program participants.

Total Annual Number of Responses = 30,205.

Total Annual Time Burden = 21,827 hours.

VA Form 10-315a

Affected Public: Private Sector.

Estimated Annual Burden: 8,750 hours.

Estimated Average Burden per Respondent: 35 hours.

Frequency of Response: Once annually.

Estimated Number of Respondents: 250.

VA Form 10-315b

Affected Public: Private Sector.

Estimated Annual Burden: 900 hours.

Estimated Average Burden per Respondent: 10 hours.

Frequency of Response: Once annually.

Estimated Number of Respondents: 90.

VA Form 10-316a

Affected Public: Private Sector.

Estimated Annual Burden: 68 hours.

Estimated Average Burden per Respondent: 45 minutes.

Frequency of Response: Once annually.

Estimated Number of Respondents: 90.

VA Form 10-316b

Affected Public: Private Sector.

Estimated Annual Burden: 90 hours.

Estimated Average Burden per Respondent: 30 minutes.

Frequency of Response: Twice annually.

Estimated Number of Respondents: 90.

VA Form 10-316c

Affected Public: Private Sector.

Estimated Annual Burden: 45 hours.

Estimated Average Burden per Respondent: 15 minutes.

Frequency of Response: Twice annually.

Estimated Number of Respondents: 90.

VA Form 10-316d

Affected Public: Private Sector.

Estimated Annual Burden: 13 hours.

Estimated Average Burden per Respondent: 30 minutes.

Frequency of Response: Once annually.

Estimated Number of Respondents: 25.

VA Form 10-316e

Affected Public: Private Sector.

Estimated Annual Burden: 68 hours.

Estimated Average Burden per Respondent: 45 minutes.

Frequency of Response: Once annually.

Estimated Number of Respondents: 90.

VA Form 10-316f

Affected Public: Private Sector.

Estimated Annual Burden: 90 hours.

Estimated Average Burden per Respondent: 30 minutes.

Frequency of Response: Twice annually.

Estimated Number of Respondents: 90.

VA Form 10-317a

Affected Public: Individuals or Households.

Estimated Annual Burden: 3,015 hours.

Estimated Average Burden per Respondent: 30 minutes.

Frequency of Response: 67 times annually.

Estimated Number of Respondents: 90.

VA Form 10-317b

Affected Public: Individuals or Households.

Estimated Annual Burden: 3,015 hours.

Estimated Average Burden per Respondent: 30 minutes.

Frequency of Response: 67 times annually.

Estimated Number of Respondents: 90.

VA Form 10-317c

Affected Public: Individuals or Households.

Estimated Annual Burden: 1,250 hours.

Estimated Average Burden per Respondent: 15 minutes.

Frequency of Response: Once annually.

Estimated Number of Respondents: 5,000.

VA Form 10-317d

Affected Public: Individuals or Households.

Estimated Annual Burden: 3,015 hours.

Estimated Average Burden per Respondent: 30 minutes.

Frequency of Response: 67 times annually.

Estimated Number of Respondents: 90.

Columbia Suicide Severity Rating Scale (C-SSRS)

Affected Public: Individuals or Households.

Estimated Annual Burden: 1,508 hours.

Estimated Average Burden per Respondent: 15 minutes.

Frequency of Response: 67 times annually.

Estimated Number of Respondents: 90.

Authority: 44 U.S.C. 3501 et seq.

Lanea Haynes,
Acting, VA PRA Clearance Officer, (Alt) Office of Information Technology, Data Governance Analytics, Department of Veterans Affairs.

[FR Doc. 2026-03374 Filed 2-19-26; 8:45 am]

BILLING CODE 8320-01-P